DEPARTMENT OF THE INTERIOR

Fish and Wildlife Service

50 CFR Part 18

RIN 1018-AH86

Florida Manatees; Incidental Take During Specified Activities; Extension of Public Comment Period

AGENCY: Fish and Wildlife Service, Interior.

ACTION: Proposed rule; extension of public comment period.

SUMMARY: We, the U.S. Fish and Wildlife Service, provide notice that the public comment period for the proposed regulations that would authorize for the next five years the incidental, unintentional take of a small number of Florida manatees (Trichechus manatus latirostris) resulting from government activities related to watercraft and watercraft access facilities is extended to allow all interested parties to submit written comments on the proposal and the draft environmental impact statement. Comments previously submitted during the comment period need not be resubmitted as they will be incorporated into the public record and will be fully considered in the final determination on the proposal.

DATES: The original comment period is scheduled to close on January 13, 2003. The comment period is hereby extended until January 27, 2003. Comments from all interested parties must be received by the closing date. Any comments that are received after the closing date may not be considered in the final decision on this proposal.

ADDRESSES: If you wish to comment, you may submit your comments by any one of the following methods:

1. You may submit written comments and information to the Field Supervisor, Jacksonville Field Office, U.S. Fish and Wildlife Service, 6620 Southpoint Drive South, Suite 310, Jacksonville, Florida 32216.

2. You may hand-deliver written comments to our Jacksonville Field Office, at the above address, or fax your comments to 904/232-2404.

3. You may send comments by electronic mail (e-mail) to manatee@fws.gov. For directions on how to submit electronic comment files, see the “Public Comments Solicited” section.

We request that you identify whether you are commenting on the proposed rule or draft environmental impact statement. Comments and materials received, as well as supporting documentation used in the preparation of this proposed rule, will be available for public inspection, by appointment, during normal business hours from 8 a.m. to 4:30 p.m. Monday through Friday, at the above address. You may obtain copies of the draft environmental impact statement from the above address or by calling 904/232-2580, or from our Web site at http://northflorida.fws.gov. Information regarding this proposal is available in alternative formats upon request.

FOR FURTHER INFORMATION CONTACT: Pete Benjamin, Assistant Field Supervisor (see ADDRESSES section), telephone 904/232-2580; or visit our Web site at http://northflorida.fws.gov.

SUPPLEMENTARY INFORMATION:

Background

The Marine Mammal Protection Act (MMPA) of 1972 (16 U.S.C. 1361-1407) sets a general moratorium, with certain exceptions, on the taking and importation of marine mammals and marine mammal products and makes it unlawful for any person to take, possess, transport, purchase, sell, export, or offer to purchase, sell, or export, any marine mammal or marine mammal product unless authorized. “Take” as defined by the MMPA and its implementing regulations (50 CFR part 18) means “to harass, hunt, capture, collect, or kill, or attempt to harass, hunt, capture, collect, or kill any marine mammal, including, without limitation, any of the following—the collection of dead animals or parts thereof; the restraint or detention of a marine mammal, no matter how temporary; tagging a marine mammal; or the negligent or intentional operation of an aircraft or vessel, or the doing of any other negligent or intentional act which results in the disturbing or molesting of a marine mammal.”

“Harassment” is defined under the MMPA as, “any act of pursuit, torment, or annoyance which—(i) has the potential to injure a marine mammal or marine mammal stock in the wild; or (ii) has the potential to disturb a marine mammal or marine mammal stock in the wild by causing disruption of behavioral patterns, including, but not limited to, migration, breathing, nursing, breeding, feeding, or sheltering.”

The prohibitions on take apply to all persons, including Federal, State, and local government agencies, with the exception of humane taking (including euthanasia) by government officials while engaged in their official duties (16 U.S.C. 1379(h)).

Section 101(a)(5)(A) of the MMPA allows the Secretary of the Department of the Interior, through the Director of the Fish and Wildlife Service (Service), upon request, to authorize by specific regulation the incidental unintentional take of a small number of marine mammals by U.S. citizens engaged in specific identified activities (other than commercial fishing) within specific geographic areas. On November 14, 2002, the Service published a proposed rule and notice of availability of a draft Environmental Impact Statement regarding regulations that would authorize for the next five years the incidental unintentional take of a small number of Florida manatees (Trichechus manatus latirostris) resulting from government activities related to watercraft and watercraft access facilities within three regions of Florida (67 FR 69078).

Public Comments Solicited

Any final action resulting from this proposal will be based on the best available information. Therefore, we solicit comments or suggestions from the public, other concerned governmental agencies, the scientific community, industry, or any other interested party concerning this proposed rule.

We welcome any and all suggestions, materials, and recommendations to assist and guide us in this endeavor. Specifically, we are seeking:

1. Information regarding manatee population studies/data, particularly for the Southwest Florida Stock;

2. Information regarding measures, including technological measures, that would result in the least practicable impact on manatees and their habitat;

3. Information regarding the effectiveness of mitigating measures currently in place;

4. Information regarding the potential social and economic effects of the proposed regulations;

5. Information regarding means of minimizing potential social and economic effects of the negative finding for the Southwest Stock;

6. Suggested means and measures to report and monitor the effects of incidental take on manatees;

7. Suggested additional research efforts related to the findings of this rule; and

8. Nominations for participants to serve on the Working Group on Watercraft-related Incidental Take.

Additionally, we are requesting specific public comment on the following issues pertaining to the economic analysis, which is printed in its entirety in the EIS for this action:

1. Information to better model the change in boater behavior and/or the economic surplus impacts of changes in marine access;

2. Additional estimates of the difference in residential property values with and without the potential to construct private boat docks;

3. Information to estimate the number and regional distribution of out-of-state boaters who use their boats in Florida waters; and

4. Alternative regional impact models (i.e., alternatives to IMPLAN) that would more accurately capture changes in sector outputs and employment resulting from the rule.

Please submit comments as a DOS text file format and avoid the use of special characters and encryption. Please also include “Attn—RIN 1018-AH86” and your name and return address in your email message. If you do not receive a confirmation from the system that we have received your email message, contact us directly by calling the Jacksonville Field Office (see ADDRESSES section).

Our practice is to make comments, including names and home addresses of respondents, available for public review during regular business hours. Individual respondents may request that we withhold their name and home address from the rulemaking record, which we will honor to the extent allowable by law. If you wish us to withhold your name and/or address, you must state this prominently at the beginning of your comment. We will not consider anonymous comments. We will make all submissions from organizations or businesses, and from individuals identifying themselves as representatives or officials of organizations or businesses, available for public inspection in their entirety.

Our final determination on the proposed regulations will take into consideration comments and any additional information received by the date specified above. Previous comments and information submitted during the comment period need not be resubmitted. The comment period is extended to January 27, 2003.

Author

The primary author of this notice is Stefanie Barrett, U.S. Fish and Wildlife Service (see ADDRESSES).

Authority

The authority to establish regulations that would authorize for the next five years the incidental, unintentional take of small numbers of Florida manatees is provided by the Marine Mammal Protection Act of 1972 (16 U.S.C. 1361-1407), as amended.

Dated: December 27, 2002.
David P. Smith,
Acting Assistant Secretary for Fish and Wildlife and Parks.

[FR Doc. 03-357 Filed 1-8-03; 8:45 am]

BILLING CODE 4310-55-P